NATIONAL AERONAUTICS AND SPACE ADMINISTRATION

[Notice: (23-125)]

Nationwide Programmatic Agreement Regarding the Management of NASA Assets

AGENCY: National Aeronautics and Space Administration (NASA).

ACTION: Notice of availability (NOA) for a proposed nationwide programmatic agreement; request for comments.

SUMMARY: NASA is proposing a nationwide programmatic agreement (NPA), among NASA, the Advisory Council on Historic Preservation (ACHP) and the National Conference of State Historic Preservation Officers (NCSHPO) for management of NASA assets. The purpose of the NPA is to create a process by which NASA can meet its responsibilities to manage its U.S. real property assets under sections 106 and 110 of the National Historic Preservation Act (NHPA) in a manner that accommodates NASA's mission and addresses the unique challenges of historic highly technical and scientific facilities (HTSF). The need for a tailored process became more essential in 2015, when the Office of Management and Budget released the “National Strategy for the Efficient Use of Real Property” and the companion policy, “Reduce the Footprint”, which requires Federal agencies to dispose of surplus properties, make more efficient use of the Government's real property assets, and reduce the total square footage of their domestic office and warehouse inventory relative to an established baseline. NASA requests comments on the proposed agreement.

DATES: Comments should be received by January 24, 2024.

ADDRESSES: The Draft NPA is available for review at https://www.nasa.gov/emd/npa-drafts/. We encourage you to submit comments on the NPA via electronic mail to hq-crm@mail.nasa.gov. Comments may also be sent by mail Attention: Office of the General Counsel, (General Law—Curtis Borland), Mary W. Jackson NASA Headquarters, 300 E St. SW, Washington, DC 20546. Please note that correspondence sent by mail may encounter delays in receipt by the agency.

FOR FURTHER INFORMATION CONTACT: Dr. Rebecca Klein, Federal Preservation Officer, by electronic mail at hq-crm@mail.nasa.gov or 202.816.0020.

SUPPLEMENTARY INFORMATION: The NPA has been developed as a management approach that addresses the full range of built, archaeological, and tribal cultural resources under NASA's stewardship. Supporting information on the NPA can be found on the NASA NPA website at https://www.nasa.gov/emd/nasa-npa/. This web page contains links to the Draft NPA, “NPA Drafts for Review,” as well as supplemental resource information on three other pages: “About the NPA”, “NPA Frequently Asked Questions (FAQs)”, and “Resource Significance Framework (RSF).”

Joel R. Carney,
Assistant Administrator, Office of Strategic Infrastructure.

[FR Doc. 2023-28248 Filed 12-21-23; 8:45 am]

BILLING CODE 7510-13-P